DEPARTMENT OF DEFENSE

Department of the Army

Notice of Intent To Prepare an Environmental Impact Statement to Construct a Second Runway at the Killeen-Fort Hood Regional Airport, Killeen, TX

AGENCY: Department of the Army, DOD.

ACTION: Notice.

SUMMARY: Pursuant to the National Environmental Policy Act (NEPA) of 1969, as amended (42 U.S.C. 4321, et seq.), the Council on Environmental Quality (CEQ) Regulations for Implementing the Procedural Provisions of NEPA (40 CFR parts 1500-1508), and Department of the Army (DoA) Implementing regulations (32 CFR part 651 Environmental Analysis of Army Actions; Final Rule), the DoA is issuing this notice to advise the public of its intent to prepare an Environmental Impact Statement (EIS) to assess the potential environmental impacts on a proposal to construct a second runway at the Killeen-Fort Hood Regional Airport (Airport) at Killeen, TX. Initial assessment indicates that the preparation of an EIS is warranted because the proposed action would involve construction of facilities that would have a significant effect on habitat for the federally listed black-capped vireo and golden cheeked warbler. The City of Killeen initiated the proposed project, thus is the project's proponent. Because the proposed project will be located on Fort Hood Military Reservation, or Federal land, the Department of the Army is the lead agency.

FOR FURTHER INFORMATION CONTACT: John MacFarlane, Environmental Research Group, LLC, P.O. Box 11544, Fort Worth, TX 76110, 817-923-6455, 817-923-6456 (fax), http://www.envrg.com.

SUPPLEMENTARY INFORMATION: The Fort Hood Military Reservation occupies 214,778 acres in central Texas in Bell and Coryell Counties. It is 58 miles north of Austin, TX, and 39 miles southwest of Waco, TX, and lies adjacent to the City of Killeen, TX. The installation has three cantonment areas (designated Main Cantonment Area, West Fort Hood, and North Fort Hood) on 8,604 acres, two instrumented airfields on 2,915 acres, and maneuver and live-fire training areas on 197,603 acres.

In 1999, Fort Hood and the City of Killeen (City) completed negotiations for a joint-use agreement that allowed the City to lease property southeast of Robert Gray Army Airfield and allow civilian access to Fort Hood's 10,000 ft runway. The resulting Killeen-Fort Hood Regional Airport began commercial operations on August 2, 2004. It is a small, regional/commercial joint-use airport also known by its military designation as Robert Gray Army Airfield. The airport is within the boundaries of the Fort Hood Military Reservation and is located a few miles southwest of the City of Killeen. The joint-use airport operates with a single runway.

The EIS will analyze the impacts of all practicable alternatives, including the No Action Alternative. Impacts analyzed in the EIS will include a wide range of environmental resource areas including, but not limited to, air quality, traffic, noise, water resources, biological resources, cultural resources, socioeconomics, utilities, land use, solid and hazardous materials/waste, and cumulative environmental effects. Additional resources, conditions, and alternatives may be identified as a result of the scoping process initiated by this NOI.

Opportunities for public participation will be announced in the local news media, on the City's Web site at http://www.ci.killeen.tx.us, and on Fort Hood's Web site http://www.dpw.hood.army.mil, click on “Public Notices” link. The City will host public scoping meetings in the vicinity of the proposed project. Previously identified alternatives will be displayed at those meetings, while public input may determine other alternatives. The exact dates, times, and location(s) of public scoping meetings will be announced through the local news media, including, but not limited to local newspapers. Oral and written comments presented at the public scoping meetings, as well as written comments received by the City during this scoping period and throughout the environmental impact analysis process, will be considered in the preparation of the EIS. Following completion of a Draft EIS (DEIS), the public will have an additional opportunity for review and comment. Comments from the public will be considered before any decision is made regarding implementing the proposed action at the Killeen-Fort Hood Regional Airport.

Steven G. Burrow,
Chief, Environmental Programs, Directorate of Public Works.

[FR Doc. E8-25425 Filed 10-23-08; 8:45 am]

BILLING CODE 3710-08-P